DEPARTMENT OF THE INTERIOR

Bureau of Land Management

[LLCOF07000.L14400000.FR0000-18X; COC-15671]

Notice of Realty Action: Recreation and Public Purposes Act Classification and Conveyance of Public Land, Hinsdale County, Colorado

AGENCY: Bureau of Land Management, Interior.

ACTION: Notice of realty action.

SUMMARY: The Bureau of Land Management (BLM) has examined certain public lands in Hinsdale County, Colorado totaling 43.09 acres, and found them suitable for classification for conveyance to the Town of Lake City (Lake City) under the provisions of the Recreation and Public Purposes Act (R&PP), as amended.

DATES: The BLM must receive written comments on or before August 8, 2019. Comments may be mailed or hand delivered to the BLM office address below, faxed to 970-642-4990 or emailed to blm_co_gfo_nepa_comments@blm.gov. The BLM will not consider comments received via telephone calls.

ADDRESSES: Mail written comments to Stuart Schneider, Associate Field Manager, BLM Gunnison Field Office, 210 W Spencer Ave., Suite A, Gunnison, CO 81230. Detailed information including, but not limited to, a proposed development and management plan, and documentation relating to compliance with applicable environmental and cultural resource laws, is available for review during business hours, 8:00 a.m. to 4:30 p.m. (Mountain Time), Monday through Friday, except during Federal holidays, at the BLM Gunnison Field Office.

FOR FURTHER INFORMATION CONTACT: Marnie Medina, Realty Specialist, BLM Gunnison Field Office, at 970-642-4954 or by email at mmedina@blm.gov. Persons who use a telecommunications device for the deaf (TDD) may call the Federal Relay Service (FRS) at 1-800-877-8339 to leave a message or question with the above individual. The FRS is available 24 hours a day, 7 days a week. You will receive a reply during normal business hours.

SUPPLEMENTARY INFORMATION: The lands examined and identified as suitable for lease or conveyance under the R&PP Act (43 U.S.C. 869 et seq.); Sec. 7 of the Taylor Grazing Act (43 U.S.C. 315(f)); and Executive Order No. 6910 are legally described as:

New Mexico Principal Meridian, Colorado

T. 43 N, R. 4 W,

Sec. 4, lots 40, 42, 45, and 46.

The area described contains 43.09 acres.

The Lake City Ski Hill is located on public lands approximately one mile south of Lake City. Lake City has developed recreational resources in the area under various BLM authorizations since 1966. The BLM classified and withdrew approximately 25 acres of public lands under the R&PP Act in October 1972. The BLM did not include all of the ski area and associated developments such as the parking lot, access roads and some of the ski runs.

The proposed action is to convey an additional 18.24 acres for an approximate 43.09 acres of public lands to Lake City. Also in October 1972, the BLM further segregated those lands from location and entry under the United States mining laws, but the lands remained open to the operation of the mineral leasing. The BLM most recently reauthorized the lease in 2014.

Lake City proposes to use the land for the continued use and operation of the Lake City Ski Hill and for other recreation purposes, such as mountain biking, hiking and other compatible summer recreational activities. This proposal aligns with the Administration's priority to restore trust and be a good neighbor. In this case, the BLM would collaborate with local government to provide increased recreation access and opportunities. Lake City would continue to use the lands proposed for conveyance for established and further defined proposed uses. The acreage of the proposed conveyance is no more than is reasonably necessary for the established and proposed uses. The proposed conveyance is consistent with the 1993 BLM Gunnison Resource Area Record of Decision and Approved Resource Management Plan. The Federal government does not need the lands for any Federal purposes, and the conveyance would be in the public interest.

The Town of Lake City has applied for not more than the 6,400-acre limitation for recreation uses in a year (or 640 acres for nonprofit corporations and associations), nor more than 640 acres for each of the programs involving public resources other than recreation. The Town of Lake City submitted a statement in compliance with the regulations at 43 CFR 2741.4(b).

In conformance with the National Environmental Policy Act, the BLM prepared a parcel-specific Environmental Assessment (EA) document (DOI-BLM-CO-S060-2016-0005-EA) for this Notice of Realty Action. A copy of the EA is available online at https://go.usa.gov/xn6H7. Based on the EA, the BLM approved a Finding of No Significant Impact and a Decision Record to implement the classification and conveyance of the lands described above on March 21, 2017.

All interested parties will receive a copy of this Notice after publication in the Federal Register. The BLM will submit for publication a copy of the Federal Register Notice with information about the proposal in the newspaper with local circulation once a week for three consecutive weeks. The regulations at 43 CFR Subpart 2741 addressing requirements and procedures for conveyances under the R&PP Act do not require a public meeting.

Publication of this Notice in the Federal Register segregates the lands from all other forms of appropriation under the public land laws, including locations under the mining laws, except for lease or conveyance under the R&PP Act and leasing under the mineral leasing laws.

The conveyance of the land, when issued, will be subject to the following terms, conditions and reservations:

1. A right-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. June 10, 1920 (16 U.S.C. 791a) Federal Power Act. The right to itself, its permittees or licensees, to enter upon, occupy, and use any part or all of said lands necessary, in the judgment of the Federal Energy Regulatory Commission, for the purposes of Part 1 of the Federal Power Act of August 26, 1935, as amended (16 U.S.C. 818); and no claim or right to compensation shall accrue from the occupation or use of any of said lands for said purposes. The United States or any licensee for any such lands hereunder may enter thereupon for the purposes of Part 1 of the Federal Power Act upon payment of any damages to crops, buildings, or other improvements caused thereby to the owner thereof, or upon giving a good and sufficient bond to the United States for the use and benefit of the owner to secure the payment of such damages as may be determined and fixed in an action brought upon the bond in a court of competent jurisdiction, said bond to be in the form prescribed by the Federal Energy Regulatory Commission.

5. Valid existing rights.

6. An appropriate indemnification clause protecting the United States from claims arising out of the lessee's/patentee's use, occupancy, or occupations on the leased/patented lands.

6. Any other reservations that the authorized officer determines appropriate to ensure public access and proper management of Federal lands and interests therein.

7. A right-of-way across the above-described lands for a road granted to Lake City Family Trust, its successors or assigns, by right-of-way COC-65717 pursuant to the Act of October 21, 1976 (90 Stat. 2776, 43 U.S.C. 1761).

8. A right-of-way across the above-described lands for a road granted to Vickers Enterprises, its successors or assigns, by right-of-way COC-66348 pursuant to the Act of October 21, 1976 (90 Stat. 2776, 43 U.S.C. 1761).

9. Pursuant to the requirements established by Section 120(h) of the Comprehensive Environmental Response, Compensation and Liability Act (42 U.S.C. 9620(h), as amended by the Superfund Amendments and Reauthorization Act of 1988, (100 Stat. 1670), a notice that states that the above-described parcel was examined and no evidence was found to indicate that any hazardous substances were stored for 1 year or more, nor had any hazardous substances been disposed of or released on the subject property.

Interested persons may submit comments involving the suitability of the land for the continued use and operation of the Lake City Ski Hill and for other recreation purposes. Comments on the classification are restricted to whether the land is physically suited for the proposal, whether the use will maximize the future use or uses of the land, whether the use is consistent with local planning and zoning, or if the use is consistent with State and Federal programs.

Interested persons may submit comments regarding the specific use proposed in the application and plan of development and management, whether the BLM followed proper administrative procedures in reaching the decision, or any other factor not directly related to the suitability of the lands for the continued use and operation of the Lake City Ski Hill and for other recreation purposes.

The BLM State Director or other authorized official of the Department of the Interior who may sustain, vacate, or modify this realty action will review any adverse comments. In the absence of any adverse comments, the classification will become effective on August 23, 2019. The lands will not be available for conveyance until after the classification becomes effective.

Before including your address, phone number, email address, or other personally-identifying information in any comment, be aware that your entire comment including your personally-identifying information may be made publicly available at any time. While you can ask us in your comment to withhold your personally-identifying information from public review, we cannot guarantee that we will be able to do so.

(Authority: 43 CFR 2741.5)

Jamie Connell,
BLM Colorado State Director.

[FR Doc. 2019-13385 Filed 6-21-19; 8:45 am]

BILLING CODE 4310-JB-P